DEPARTMENT OF THE TREASURY

Submission for OMB Review; Comment Request

March 27, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 6, 2002 to be assured of consideration.

Internal Revenue Service (IRS)

OMB Number: 1545-1420.

Form Number: IRS Form 8849.

Type of Review: Extension.

Title: Claim for Refund of Excise Taxes.

Description: Internal Revenue Code (IRC) sections 6402, 6404, and sections 301.6402-2, 301-6404-1, and 301-6404-3 of the regulations, allow for refunds of taxes (except income taxes) or refund, abatement, or credit of interest, penalties, and additions to tax in the event of errors or certain actions by IRS. Form 8849 is used by taxpayers to claim refunds of excise taxes.

Respondents: Business or other for-profit, individuals or households, not-for-profit institutions, farms, Federal Government, State, Local or Tribal Government.

Estimated Number of Respondents/Recordkeepers: 125,292.

Estimated Burden Hours Per Respondent/Recordkeeper:

Form/Schedule | Recordkeeping | Learning about the law or the form | Preparing, copying assembling, and sending the form to the IRS
Form 8849 | 3 hr., 35 min. | 30 min. | 34 min.
Schedule 1 | 11 hr., 57 min. |  | 12 min.
Schedule 2 | 7 hr., 39 min. | 12 min. | 19 min.
Schedule 3 | 3 hr., 21 min. |  | 3 min.
Schedule 4 | 4 hr., 46 min. |  | 4 min.
Schedule 5 | 5 hr., 15 min. | 6 min. | 11 min.
Schedule 6 | 4 hr., 32 min. | 12 min. | 16 min.

Frequency of Response: Quarterly, Annually.

Estimated Total Reporting/Recordkeeping Burden: 1,841,954 hours.

Clearance Officer: Glenn Kirkland, Internal Revenue Service, Room 6411, 1111 Constitution Avenue, NW., Washington, DC 20224.

OMB Reviewer: Alexander T. Hunt, (202) 395-7860, Office of Management and Budget, Room 10202, New Executive Office Building, Washington, DC 20503.

Mary A. Able,
Departmental Reports Management Officer.

[FR Doc. 02-8179 Filed 4-3-02; 8:45 am]

BILLING CODE 4830-01-P